DEPARTMENT OF AGRICULTURE

Forest Service

Northwest Sacramento Provincial Advisory Committee (SAC PAC)

AGENCY: Forest Service, USDA.

ACTION: Notice of meeting.

SUMMARY: The Northwest Sacramento Provincial Advisory Committee (PAC) will meet on December 17, 2003, at the Bureau of Land Management Conference Room, Redding, California. The purpose of the meeting is to discuss issues relating to implementing the Northwest Forest Plan.

DATE AND TIME: The meeting will be held December 17, 2003 from 9 a.m. to 4 p.m.

LOCATION: The meeting will be held in the Bureau of Land Management Conference Room, 355 Hemsted Road in Redding, California.

FOR FURTHER INFORMATION CONTACT: Julie Nelson, Committee Coordinator, USDA, Shasta-Trinity National Forest, 2400 Washington Ave., Redding, CA 96001, (530) 242-2269; e-mail: jknelson@fs.fed.us.

SUPPLEMENTARY INFORMATION: The meeting is open to the public. Opportunity will be provided for public input and individuals will have the opportunity to address the Committee at that time.

Dated: October 14, 2003.
J. Sharon Heywood,
Forest Supervisor.

[FR Doc. 03-26365 Filed 10-17-03; 8:45 am]

BILLING CODE 3410-FK-M